SELECTIVE SERVICE SYSTEM

Computer Matching Between the Selective Service System and the Department of Education

AGENCY: Selective Service System.

Action: Notice.

In accordance with the Privacy Act of 1974 (5 U.S.C. 552a), as amended by the Computer Matching and Privacy Protection Act of 1988 (Pub. L. 100-503), and the Office of Management and Budget (OMB) Guidelines on the Conduct of Matching Programs (54 FR 25818 (June 19, 1989)), and OMB Bulletin 89-22, the following information is provided:

1. Name of Participating Agencies

The Selective Service System (SSS) and the Department of Education (ED).

2. Purpose of the Match

The purpose of this matching program is to ensure that the requirements of Section 12(f) of the Military Selective Service Act [50 U.S.C. App. 462 (f)] are met. This program has been in effect since December 6, 1985.

3. Authority for Conducting the Matching Computerized Access to the Selective Service Registrant

Registration Records (SSS-9) enables ED to confirm the registration status of applicants for assistance under Title IV of the Higher Education Act of 1965 (HEA), as amended (20 U.S.C. 1070 et. seq.). Section 12(f) of the Military Selective Service Act (MSSA), as amended [50 U.S.C. App. 462(f)], denies eligibility for any form of assistance or benefit under Title IV of the HEA to any person required to present himself for and submit to registration under Section 3 of the MSSA [50 U.S.C. App. 453] who fails to do so in accordance with that section and any rules and regulations issued under that section. In addition, Section 12(f)(2) of the MSSA specifies that any person required to present himself for and submit to registration under Section 3 of the MSSA must file a statement with the institution of higher education where the person intends to attend or is attending that he is in compliance with the MSSA. Furthermore, Section 12(f)(3) of the MSSA authorizes the Secretary of Education, in agreement with the Director of the Selective Service, to prescribe methods for verifying the statements of compliance filed by students.

Section 484(n) of the HEA [20 U.S.C. 1091(n)], requires the Secretary to conduct data base matches with SSS, using common demographic data elements, to enforce the Selective Service registration provisions of the MSSA [50 U.S.C. App. 462(f)], and further states that appropriate confirmation of a person shall fulfill the requirement to file a separate statement of compliance.

4. Categories of Records and Individuals Covered

1. Federal Student Aid Application File (18-11-01).

Individuals covered are men born after December 31, 1959, but at least 18 years old by January 1 of the applicable award year.

2. Selective Service Registration Records (SSS-9).

5. Inclusive Dates of the Matching Program

Commence on July 2, 2012 or 40 days after copies of the matching agreement are transmitted simultaneously to the Committee on Government Affairs of the Senate, the Committee on Government Operations of the House of Representatives, and the Office of Management and Budget, whichever is later, and remain in effect for eighteen months unless earlier terminated or modified by agreement of the parties.

6. Address for Receipt of Public Comments or Inquires

Mr. Gastón Naranjo, Selective Service System, 1515 Wilson Boulevard, Arlington, Virginia 22209-2425.

Dated: May 1, 2012.
Lawrence G. Romo,
Director.

[FR Doc. 2012-11143 Filed 5-8-12; 8:45 am]

BILLING CODE 8015-01-P